NUCLEAR REGULATORY COMMISSION

Biweekly Notice; Applications and Amendments to Facility Operating Licenses

Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from March 18, 2005, through March 31, 2005. The last biweekly notice was published on March 29, 2005 (70 FR 15940).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and DirectivesBranch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area 01F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by email to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(I)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-461, Clinton Power Station, Unit 1, DeWitt County, Illinois

Date of amendment request: December 17, 2004.

Description of amendment request: The proposed changes would revise Appendix B, Environmental Protection Plan (EPP), non-radiological, of the Facility Operating License (FOL) for Clinton Power Station. The proposed changes would retain certain elements of the EPP and would revise others by clarifying a number of items without changing the purpose, by removing the requirement for an annual report, by updating terminology, by deleting obsolete program information, and by standardizing the wording in the EPP.

Basis for proposed no significant hazards consideration determination: As required by 10 CFR 50.91(a), the licensee has provided its analysis of the issue of no significant hazards consideration, which is presented below:

1. Does the proposed change involve a significant increase in the probability or consequences of an accident previously evaluated?

Response: No. The Environmental Protection Plans (EPPs) are concerned with monitoring the effect that plant operations have on the environment for the purpose of protecting the environment and have no affect on any accident postulated in the Updated Final Safety Analysis Report (UFSAR). Accident probabilities or consequences are not affected in any way by the environmental monitoring and reporting required by the EPPs. The deletion of portions of Appendix B of the FOL will not impact the design or operation of any plant system or component. No environmental protection requirements established by other Federal, State, or local agencies are being reduced by this license amendment request.

Therefore, the proposed changes do not involve a significant increase in the probability or consequences of an accident previously evaluated.

2. Does the proposed change create the possibility of a new or different kind of accident from any accident previously evaluated?

Response: No. The proposed changes are administrative in nature. Environmental monitoring and reporting have no effect on accident initiation. The deletion of portions of Appendix B of the FOL will not impact the design or operation of any plant system or component. There will be no effect on the types or amount of any effluents released from the plants.

Therefore, the proposed changes do not create the possibility of a new or different kind of accident from any accident previously evaluated.

3. Does the proposed change involve a significant reduction in a margin of safety?

Response: No. These proposed changes are administrative in nature. Changes in the annual reporting requirements and other administrative revisions in accordance with this submittal have no impact on margin of safety. Environmental evaluations will still be performed, when necessary, on changes to plant design or operations to assess the effect on environmental protection. Review, analysis and investigation of Unusual and Important Environmental Events will still be performed in accordance with the Exelon and AmerGen Corrective Action Program.

The NRC staff has reviewed the licensee's analysis and, based on this review, it appears that the three standards of 10 CFR 50.92(c) are satisfied. Therefore, the NRC staff proposes to determine that the requested amendments involve no significant hazards consideration.

Attorney for licensee: Mr. Thomas S. O'Neill, Associate General Counsel, Exelon Generation Company, LLC, 4300 Winfield Road, Warrenville, IL 60555.

NRC Section Chief: Gene Y. Suh.

AmerGen Energy Company, LLC, Docket Nos. 50-352 and 50-353, Limerick Generating Station, Units 1 and 2, Montgomery County, Pennsylvania; Docket Nos. 50-277 and 50-278, Peach Bottom Atomic Power Station, Units 2 and 3, York and Lancaster Counties, Pennsylvania

Date of amendment request: December 17, 2004.

Description of amendment request: The proposed changes would revise Appendix B, Environmental Protection Plan (EPP), non-radiological, of the Facility Operating License (FOL) for each of the units listed above. The proposed changes would retain certain elements of the EPPs and would revise others by clarifying a number of items without changing the purpose, by removing the requirement for an annual report, by updating terminology, by deleting obsolete program information, and by standardizing the wording in the EPPs.

Basis for proposed no significant hazards consideration determination: As required by 10 CFR 50.91(a), the licensee has provided its analysis of the issue of no significant hazards consideration, which is presented below:

1. Does the proposed change involve a significant increase in the probability or consequences of an accident previously evaluated?

Response: No. The Environmental Protection Plans (EPPs) are concerned with monitoring the effect that plant operations have on the environment for the purpose of protecting the environment and have no affect on any accident postulated in the Updated Final Safety Analysis Report (UFSAR). Accident probabilities or consequences are not affected in any way by the environmental monitoring and reporting required by the EPPs. The deletion of portions of Appendix B of the FOL will not impact the design or operation of any plant system or component. No environmental protection requirements established by other Federal, State, or local agencies are being reduced by this license amendment request.

Therefore, the proposed changes do not involve a significant increase in the probability or consequences of an accident previously evaluated.

2. Does the proposed change create the possibility of a new or different kind of accident from any accident previously evaluated?

Response: No. The proposed changes are administrative in nature. Environmental monitoring and reporting have no effect on accident initiation. The deletion of portions of Appendix B of the FOL will not impact the design or operation of any plant system or component. There will be no effect on the types or amount of any effluents released from the plants.

Therefore, the proposed changes do not create the possibility of a new or different kind of accident from any accident previously evaluated.

3. Does the proposed change involve a significant reduction in a margin of safety?

Response: No. These proposed changes are administrative in nature. Changes in the annual reporting requirements and other administrative revisions in accordance with this submittal have no impact on margin of safety. Environmental evaluations will still be performed, when necessary, on changes to plant design or operations to assess the effect on environmental protection. Review, analysis and investigation of Unusual and Important Environmental Events will still be performed in accordance with the Exelon and AmerGen Corrective Action Program.

Therefore, the proposed changes do not create the possibility of a new or different kind of accident from any accident previously evaluated.

The NRC staff has reviewed the licensee's analysis and, based on this review, it appears that the three standards of 10 CFR 50.92(c) are satisfied. Therefore, the NRC staff proposes to determine that the requested amendments involve no significant hazards consideration.

Attorney for licensee: Mr. Thomas S. O'Neill, Associate General Counsel, Exelon Generation Company, LLC, 4300 Winfield Road, Warrenville, IL 60555.

NRC Section Chief: Darrell J. Roberts.

AmerGen Energy Company, LLC, Docket No. 50-219, Oyster Creek Nuclear Generating Station, Ocean County, New Jersey

Date of amendment request: December 17, 2004.

Description of amendment request: The proposed changes would revise Appendix B, Environmental Protection Plan (EPP), non-radiological, of the Facility Operating License (FOL) for Clinton Power Station. The proposed changes would retain certain elements of the EPP and would revise others by clarifying a number of items without changing the purpose, by removing the requirement for an annual report, by updating terminology, by deleting obsolete program information, and by standardizing the wording in the EPP.

Basis for proposed no significant hazards consideration determination: As required by 10 CFR 50.91(a), the licensee has provided its analysis of the issue of no significant hazards consideration, which is presented below:

1. Does the proposed change involve a significant increase in the probability or consequences of an accident previously evaluated?

Response: No. The Environmental Protection Plans (EPPs) are concerned with monitoring the effect that plant operations have on the environment for the purpose of protecting the environment and have no affect on any accident postulated in the Updated Final Safety Analysis Report (UFSAR). Accident probabilities or consequences are not affected in any way by the environmental monitoring and reporting required by the EPPs. The deletion of portions of Appendix B of the FOL will not impact the design or operation of any plant system or component. No environmental protection requirements established by other Federal, State, or local agencies are being reduced by this license amendment request.

Therefore, the proposed changes do not involve a significant increase in the probability or consequences of an accident previously evaluated.

2. Does the proposed change create the possibility of a new or different kind of accident from any accident previously evaluated?

Response: No. The proposed changes are administrative in nature. Environmental monitoring and reporting have no effect on accident initiation. The deletion of portions of Appendix B of the FOL will not impact the design or operation of any plant system or component. There will be no effect on the types or amount of any effluents released from the plants.

Therefore, the proposed changes do not create the possibility of a new or different kind of accident from any accident previously evaluated.

3. Does the proposed change involve a significant reduction in a margin of safety?

Response: No. These proposed changes are administrative in nature. Changes in the annual reporting requirements and other administrative revisions in accordance with this submittal have no impact on margin of safety. Environmental evaluations will still be performed, when necessary, on changes to plant design or operations to assess the effect on environmental protection. Review, analysis and investigation of Unusual and Important Environmental Events will still be performed in accordance with the Exelon and AmerGen Corrective Action Program.

Therefore, the proposed changes do not create the possibility of a new or different kind of accident from any accident previously evaluated.

The NRC staff has reviewed the licensee's analysis and, based on this review, it appears that the three standards of 10 CFR 50.92(c) are satisfied. Therefore, the NRC staff proposes to determine that the requested amendments involve no significant hazards consideration.

Attorney for licensee: Mr. Thomas S. O'Neill, Associate General Counsel, Exelon Generation Company, LLC, 4300 Winfield Road, Warrenville, IL 60555.

NRC Section Chief: Richard J. Laufer.

AmerGen Energy Company, LLC, et al., Docket No. 50-219, Oyster Creek Nuclear Generating Station, Ocean County, New Jersey

Date of amendment request: March 25, 2005.

Description of amendment request: The licensee proposed to revise Technical Specifications Section 3.7.A.3.a to reflect the capability upgrade of one of the offsite power lines from 69 kV to 230 kV by the owner of this line, Conective Energy Company. The offsite alternating current (AC) power normally supplies the station auxiliaries through the startup transformer. After the station is operating and supplying electric power to the grid, the offsite power acts as a standby source of power. The proposed change involves transmission lines external to the station, and would involve no physical or procedural changes to onsite equipment. There are no surveillance requirements associated with the offsite power sources, and no change in this regard is proposed.

The proposed amendment would also include a clarification change to Section 3.7.A.2 to distinguish between the two current 230 kV lines (N-line and O-line) from the new 230 kV S-line.

Basis for proposed no significant hazards consideration determination: As required by 10 CFR 50.91(a), the licensee has provided its analysis of the issue of no significant hazards consideration, which is presented below:

(1) Does the proposed change involve a significant increase in the probability or consequences of an accident previously evaluated?

Response: No.

The proposed change upgrades the existing 69 kV offsite power supply line to a 230 kV supply line. An evaluation performed to assess the effects of the upgrade determined that upgrading the 69 kV line to a 230 kV line does not degrade the reliability of the transmission interconnection with the Oyster Creek plant and therefore does not increase the probability of the occurrence of an accident. The proposed change will provide an equivalent or better level of reliability of the offsite power supply system. Since there is no reduction in the reliability of the offsite power supply system, there will be no increase in the potential for fuel failure and there is no increase in the consequences of any accidents previously evaluated.

Therefore, the proposed change does not involve a significant increase in the probability or consequences of an accident previously evaluated.

(2) Does the proposed change create the possibility of a new or different kind of accident from any accident previously evaluated?

Response: No.

The proposed change upgrades the existing 69 kV offsite power supply line to a 230 kV supply line. An evaluation performed to assess the effects of the upgrade determined that upgrading the 69 kV line to a 230 kV line does not degrade the reliability of the transmission interconnection with the Oyster Creek plant. The proposed change does not involve the use or installation of new plant equipment. Installed plant equipment is not operated in a new or different manner. No new or different system interactions are created, and no new processes are introduced.

Therefore, the proposed change does not create the possibility of a new or different kind of accident from any previously evaluated.

(3) Does the proposed change involve a significant reduction in a margin of safety?

Response: No.

The proposed change upgrades the existing 69 kV offsite power supply line to a 230 kV supply line. The active or passive failure mechanisms that could adversely impact the consequences of an accident are not affected by this proposed change. All analyzed transient results remain well within the design values for structures, systems and components.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Thomas S. O'Neill, Associate General Counsel, Exelon Generation Company, LCC, 4300 Winfield Road, Warrenville, IL 60555.

NRC Section Chief: Richard J. Laufer.

AmerGen Energy Company, LLC, et al., Docket No. 50-289, Three Mile Island Station, Unit 1, Dauphine County, Pennsylvania; Docket No. 50-461, Clinton Power Station Unit 1, DeWitt County, Illinois

Date of amendment request: October 21, 2004, as supplemented by letter dated January 4, 2005.

Description of amendment request: The proposed amendment would delete requirements from the Technical Specifications (TSs) to submit monthly operating reports and annual occupational radiation exposure reports. The changes are consistent with Revision 1 of Nuclear Regulatory Commission (NRC) approved Industry/Technical Specifications Task Force (TSTF) Standard Technical Specification Change Traveler, TSTF-369, “Removal of Monthly Operating and Occupational Radiation Exposure Report.” The availability of this TS improvement was announced in the Federal Register (69 FR 35067) on June 23, 2004, as part of the Consolidated Line Item Improvement Process (CLIIP).

The U.S. Nuclear Regulatory Commission (NRC) staff issued a notice of availability of a model no significant hazards consideration (NSHC) determination for referencing in license amendment applications in the Federal Register on September 25, 2003 (68 FR 55416). The licensee affirmed the applicability of the model NSHC determination in its application dated October 21, 2004, as supplemented by letter dated January 4, 2005.

Basis for proposed no significant hazards consideration determination: As required by 10 CFR 50.91(a), an analysis of the issue of NSHC is presented below:

1. The proposed change does not involve a significant increase in the probability or consequences of an accident previously evaluated.

The proposed change eliminates the Technical Specifications (TSs) reporting requirements to provide a monthly operating report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

The proposed change does not involve a physical alteration of the plant, add any new equipment, or require any existing equipment to be operated in a manner different from the present design. Therefore, the proposed change does not create the possibility of a new or different kind of accident from any accident previously evaluated.

3. Does the proposed change involve a significant reduction in a margin of safety?

This is an administrative change to reporting requirements of plant operating information and occupational radiation exposure data, and has no effect on plant equipment, operating practices or safety analyses assumptions. For these reasons, the proposed change does not involve a significant reduction in the margin of safety.

Based on the reasoning presented above and the previous discussion of the amendment request, the NRC staff proposes to determine that the requested change does not involve a significant hazards consideration.

Attorney for licensee: Mr. Thomas S. O'Neill, Associate General Counsel, Exelon Generation Company, LLC, 4300 Winfield Road, Warrenville, IL 60555.

NRC Section Chief: Richard J. Laufer.

Dominion Nuclear Connecticut, Inc., Docket Nos. 50-245, 50-336, and 50-423, Millstone Power Station, Unit Nos. 1, 2, and 3, New London County, Connecticut

Date of amendment request: December 21, 2004.

Description of amendment request: The requested change will delete Technical Specification (TS) requirements for annual Occupational Radiation Exposure Reports (all Units), annual report regarding challenges to pressurizer relief and safety valves (Unit Nos. 2 and 3), and Monthly Operating Reports (Unit Nos. 2 and 3).

The NRC staff issued a notice of availability of a model no significant hazards consideration (NSHC) determination for referencing license amendment applications in the Federal Register on June 23, 2004 (69 FR 35067). The licensee affirmed the applicability of the model NSHC determination in its application dated December 21, 2004.

Basis for proposed no significant hazards consideration determination: As required by 10 CFR 50.91(a), an analysis of the issue of no significant hazards consideration is presented below:

1. Does the proposed change involve a significant increase in the probability or consequences of an accident previously evaluated?

Response: No.

The proposed change eliminates the TSs reporting requirements to provide a monthly operating letter report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No.

The proposed change does not involve a physical alteration of the plant, add any new equipment, or require any existing equipment to be operated in a manner different from the present design. Therefore, the proposed change does not create the possibility of a new or different kind of accident from any accident previously evaluated.

3. Does the proposed change involve a significant reduction in a margin of safety?

Response: No.

This is an administrative change to reporting requirements of plant operating information and occupational radiation exposure data, and has no effect on plant equipment, operating practices or safety analyses assumptions. For these reasons, the proposed change does not involve a significant reduction in the margin of safety.

Based upon the reasoning presented above, the requested change does not involve significance hazards consideration.

Attorney for licensee: Lillian M. Cuoco, Senior Nuclear Counsel, Dominion Nuclear Connecticut, Inc., Rope Ferry Road, Waterford, CT 06385.

NRC Section Chief: Darrell J. Roberts.

Exelon Generation Company, LLC, Docket Nos. STN 50-456 and STN 50-457, Braidwood Station, Unit Nos. 1 and 2, Will County, Illinois; Docket Nos. STN 50-454 and STN 50-455, Byron Station, Unit Nos. 1 and 2, Ogle County, Illinois; Docket Nos. 50-373 and 50-374, LaSalle County Station, Units 1 and 2, LaSalle County, Illinois; Docket Nos. 50-254 and 50-265, Quad Cities Nuclear Power Station, Units 1 and 2, Rock Island County, Illinois

Date of amendment request: December 17, 2004.

Description of amendment request: The proposed changes would revise Appendix B, Environmental Protection Plan (EPP), non-radiological, of the Facility Operating License (FOL) for each of the units listed above. The proposed changes would retain certain elements of the EPPs and would revise others by clarifying a number of items without changing the purpose, by removing the requirement for an annual report, by updating terminology, by deleting obsolete program information, and by standardizing the wording in the EPPs.

Basis for proposed no significant hazards consideration determination: As required by 10 CFR 50.91(a), the licensee has provided its analysis of the issue of no significant hazards consideration, which is presented below:

1. Does the proposed change involve a significant increase in the probability or consequences of an accident previously evaluated?

Response: No. The Environmental Protection Plans (EPPs) are concerned with monitoring the effect that plant operations have on the environment for the purpose of protecting the environment and have no affect on any accident postulated in the Updated Final Safety Analysis Report (UFSAR). Accident probabilities or consequences are not affected in any way by the environmental monitoring and reporting required by the EPPs. The deletion of portions of Appendix B of the FOL will not impact the design or operation of any plant system or component. No environmental protection requirements established by other Federal, State, or local agencies are being reduced by this license amendment request.

Therefore, the proposed changes do not involve a significant increase in the probability or consequences of an accident previously evaluated.

2. Does the proposed change create the possibility of a new or different kind of accident from any accident previously evaluated?

Response: No. The proposed changes are administrative in nature. Environmental monitoring and reporting have no effect on accident initiation. The deletion of portions of Appendix B of the FOL will not impact the design or operation of any plant system or component. There will be no effect on the types or amount of any effluents released from the plants.

Therefore, the proposed changes do not create the possibility of a new or different kind of accident from any accident previously evaluated.

3. Does the proposed change involve a significant reduction in a margin of safety?

Response: No. These proposed changes are administrative in nature. Changes in the annual reporting requirements and other administrative revisions in accordance with this submittal have no impact on margin of safety. Environmental evaluations will still be performed, when necessary, on changes to plant design or operations to assess the effect on environmental protection. Review, analysis and investigation of Unusual and Important Environmental Events will still be performed in accordance with the Exelon and AmerGen Corrective Action Program.

The NRC staff has reviewed the licensee's analysis and, based on this review, it appears that the three standards of 10 CFR 50.92(c) are satisfied. Therefore, the NRC staff proposes to determine that the requested amendments involve no significant hazards consideration.

Attorney for licensee: Mr. Thomas S. O'Neill, Associate General Counsel, Exelon Generation Company, LLC, 4300 Winfield Road, Warrenville, IL 60555.

NRC Section Chief: Gene Y. Suh.

Exelon Generation Company, LLC, Docket Nos. 50-373 and 50-374, LaSalle County Station, Units 1 and 2, LaSalle County, IL

Date of amendment request: December 9, 2004.

Description of amendment request: The proposed amendment requests new actions for an inoperable battery charger and alternate battery charger testing criteria for Limiting Condition for Operation (LCO) 3.8.4 and 3.8.5. The proposed changes also includes the relocation of a number of Surveillance Requirements (SR) in Technical Specification (TS) Section 3.8.4 that perform preventative maintenance on the safety related batteries to a licensee-controlled program. It is proposed that TS Table 3.8.6-1, “Battery Cell Parameter Requirements,” be relocated to a licensee-controlled program, and specific actions with associated completion times for out-of-limits conditions for battery cell voltage, electrolyte level, and electrolyte temperature be added to TS Section 3.8.6. In addition, specific SR are being proposed for verification of these parameters.

A new program is being proposed for the maintenance and monitoring of station batteries based on the recommendations of Institute of Electrical and Electronics Engineers (IEEE) Standard 450-1995, “IEEE Recommended Practice for Maintenance, Testing, and Replacement of Vented Lead-Acid Batteries for Stationary Applications.” The items proposed to be relocated will be contained within this new program.

The proposed changes will allow additional time for maintenance and testing of the normal 250 volts direct current (VDC) and 125 VDC divisional battery chargers. In addition, relocation of the preventative maintenance SR and battery cell parameter requirements to a licensee-controlled program will continue to provide an adequate level of control of these requirements, assure the batteries are maintained at current levels of performance, allow flexibility to monitor and control these limits at values directly related to the batteries' ability to perform their assumed function, and allow the TS to focus on parameter value degradation that approach levels that may impact battery operability.

Basis for proposed no significant hazards consideration determination: As required by 10 CFR 50.91(a), the licensee has provided its analysis of the issue of no significant hazards consideration, which is presented below:

Criterion 1—The proposed change does not involve a significant increase in the probability or consequences of an accident previously evaluated.

The proposed changes restructure the Technical Specifications (TS) for the direct current (DC) electrical power system. The proposed changes add actions to specifically address battery charger inoperability. The DC electrical power system, including the associated battery chargers, is not an initiator of any accident sequence analyzed in the Updated Final Safety Analysis Report (UFSAR). Operation in accordance with the proposed TS ensures that the DC electrical power system is capable of performing its function as described in the UFSAR. Therefore, the mitigative functions supported by the DC electrical power system will continue to provide the protection assumed by the analysis.

The relocation of preventative maintenance surveillances, and certain operating limits and actions, to a newly-created licensee-controlled Battery Monitoring and Maintenance Program will not challenge the ability of the DC electrical power system to preform its design function. Appropriate monitoring and maintenance, consistent with industry standards, will continue to be performed. In addition, the DC electrical power system is within the scope of 10 CFR 50.65, “Requirements for monitoring the effectiveness of maintenance at nuclear power plants,” which will ensure the control of maintenance activities associated with the DC electrical power system.

The integrity of fission product barriers, plant configuration, and operating procedures as described in the UFSAR will not be affected by the proposed changes. Therefore, the consequences of previously analyzed accidents will not increase by implementing these changes.

Therefore, the proposed changes do not involve a significant increase in the probability of an accident previously evaluated.

Criterion 2—The proposed changes do not create the possibility of a new or different kind of accident from any previously evaluated.

The proposed changes involve restructuring the TS for the DC electrical power system. The DC electrical power system, including associated battery chargers, is not an initiator to any accident sequence analyzed in the UFSAR. Rather, the DC electrical power system is used to supply equipment used to mitigate an accident.

Therefore, the proposed changes do not create the possibility of a new or different kind of accident from any previously evaluated.

Criterion 3—The proposed changes do not involve a significant reduction in the margin of safety.

The margin of safety is established through equipment design, operating parameters, and the setpoints at which automatic actions are initiated. The proposed changes will not adversely affect operation of plant equipment. These changes will not result in a change to the setpoints at which protective actions are initiated. Sufficient DC capacity to support operation of mitigation equipment is ensured. The changes associated with the new battery maintenance and monitoring program will ensure that the station batteries are maintained in a highly reliable manner. The equipment fed by the DC electrical sources will continue to provide adequate power to safety related loads in accordance with analysis assumptions.

Therefore, the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Thomas S. O'Neill, Associate General Counsel, Exelon Generation Company, LLC, 4300 Winfield Road, Warrenville, IL 60555.

NRC Section Chief: Gene Y. Suh.

Exelon Generation Company, LLC, Docket Nos. 50-277 and 50-278, Peach Bottom Atomic Power Station, Units 2 and 3, York and Lancaster Counties, Pennsylvania

Date of amendment request: October 21, 2004, as supplemented by letter dated January 4, 2005.

Description of amendment request: The proposed amendment would delete requirements from the Technical Specifications (TSs) to submit monthly operating reports and annual occupational radiation exposure reports. The changes are consistent with Revision 1 of Nuclear Regulatory Commission (NRC) approved Industry/Technical Specifications Task Force (TSTF) Standard Technical Specification Change Traveler, TSTF-369, “Removal of Monthly Operating and Occupational Radiation Exposure Report.” The availability of this TS improvement was announced in the Federal Register (69 FR 35067) on June 23, 2004, as part of the Consolidated Line Item Improvement Process (CLIIP).

The U.S. Nuclear Regulatory Commission (NRC) staff issued a notice of availability of a model no significant hazards consideration (NSHC) determination for referencing in license amendment applications in the Federal Register on June 23, 2004 (69 FR 36067). The licensee affirmed the applicability of the model NSHC determination in its application dated October 21, 2004, as supplemented by letter dated January 4, 2005.

Basis for proposed no significant hazards consideration determination: As required by 10 CFR 50.91(a), an analysis of the issue of NSHC is presented below:

Criterion 1—Does the proposed change involve a significant increase in the probability or consequences of an accident previously evaluated?

The proposed change eliminates the Technical Specifications (TSs) reporting requirements to provide a monthly operating report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

Criterion 2—Does the proposed change create the possibility of a new or different kind of accident from any accident previously evaluated?

The proposed change does not involve a physical alteration of the plant, add any new equipment, or require any existing equipment to be operated in a manner different from the present design. Therefore, the proposed change does not create the possibility of a new or different kind of accident from any accident previously evaluated.

Criterion 3—Does the proposed change involve a significant reduction in a margin of safety?

This is an administrative change to reporting requirements of plant operating information and occupational radiation exposure data, and has no effect on plant equipment, operating practices or safety analyses assumptions. For these reasons, the proposed change does not involve a significant reduction in the margin of safety.

Based on the reasoning presented above and the previous discussion of the amendment request, the requested change does not involve a significant hazards consideration.

Attorney for licensee: Mr. Thomas S. O'Neill, Associate General Counsel, Exelon Generation Company, LLC, 4300 Winfield Road, Warrenville, IL 60555.

NRC Section Chief: Darrell J. Roberts.

PSEG Nuclear LLC, Docket Nos. 50-272 and 50-311, Salem Nuclear Generating Station, Unit Nos. 1 and 2, Salem County, New Jersey

Date of amendment request: February 10, 2005.

Description of amendment request: The proposed change would revise Technical Specification (TS) Surveillance Requirements for Salem Nuclear Generating Station Unit Nos. 1 and 2. Specifically, TS 4.5.3.2.b would be modified to remove the restriction of operating a safety injection pump or charging pump for testing purposes only. Additionally, the proposed change would allow testing of the pumps, provided the pump being tested is in a recirculation flow path with the manual discharge valve or disabled automatic valve(s) in flow paths to the reactor coolant system (RCS) closed. The proposed change would provide the licensee the flexibility to operate the safety injection and charging pumps while the pumps are isolated from the RCS.

Basis for proposed no significant hazards consideration determination: As required by 10 CFR 50.91(a), the licensee has provided its analysis of the issue of no significant hazards consideration, which is presented below:

1. Does the proposed change involve a significant increase in the probability or consequences of an accident previously evaluated?

Response: No.

In Mode 4 with the RCS coolant temperature less than 312 °F or in Modes 5 and 6 when the head is on the reactor vessel, there is a potential risk of a low temperature overpressurization condition. Mass additions of coolant by the safety injection and charging pumps could cause such an event to the extent that these pump flows exceed the ability of a single overpressure protection relief valve to protect the system. In order to eliminate this possibility, provisions are made to allow a maximum of one pump to be in service with the other pumps disabled except for testing with the pump isolated from the RCS. Provisions are made to ensure that a pump being tested cannot inject into the vessel. The proposed change merely adds flexibility to safety injection pump operation while continuing to assure isolation from the RCS. The proposed change continues to offer an equivalent means of affording the required protection against low temperature overpressurization.

Based upon the above, the proposed change will not involve a significant increase in the probability or consequences of an accident previously analyzed.

2. Does the proposed change create the possibility of a new or different kind of accident from any accident previously evaluated?

Response: No.

The proposed change permits a minor change in the operation of the plant by adding flexibility to safety injection pump operation while continuing to assure isolation from the RCS. The proposed change continues to offer an equivalent means of affording the required protection against low temperature overpressurization. The proposed change does not create the possibility of a new or different kind of accident from any accident previously evaluated in the UFSAR [updated final safety analysis report]. No new accident scenarios, failure mechanisms, or limiting single failures are introduced as a result of the proposed changes. Specifically, no new hardware is being added to the plant as part of the proposed change, no existing equipment is being modified, and no significant changes in operations are being introduced.

Therefore, the proposed changes do not create the possibility of a new or different kind of accident from any previously evaluated.

3. Does the proposed change involve a significant reduction in a margin of safety?

Response: No.

The proposed change will not alter any assumptions, initial conditions, or results of any accident analyses. The proposed change maintains the level of protection against a low temperature overpressurization condition.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, Esquire, Nuclear Business Unit—N21, P.O. Box 236, Hancocks Bridge, NJ 08038.

NRC Section Chief: Darrell J. Roberts.

R.E. Ginna Nuclear Power Plant, LLC, Docket No. 50-244, R. E. Ginna Nuclear Power Plant, Wayne County, New York

Date of amendment request: December 20, 2004.

Description of amendment request: The proposed amendment would revise the surveillance requirements to verify the acceptability of new diesel fuel oil for use, prior to addition to the storage tanks, and to stored fuel oil.

Basis for proposed no significant hazards consideration determination: As required by 10 CFR 50.91(a), the licensee has provided its analysis of the issue of no significant hazards consideration, which is presented below:

1. Does the proposed changes involve a significant increase in the probability or consequences of an accident previously evaluated?

Response: No.

The proposed changes involve the expansion of the test used to establish the acceptability of new fuel oil for use prior to addition to storage tanks, to allow a water and sediment content test to be performed. In addition, a limit is being added for the amount of particulate allowed in stored fuel, and the specific allowance to utilize the exceptions of SR 3.0.2 and SR 3.0.3.

Allowing a water and sediment content test to be performed to establish the acceptability of new fuel oil, including a limit for particulate for the stored fuel oil, and adding the allowance of SR 3.0.2 and SR 3.0.3 will not affect nor degrade the ability of the emergency diesel generators (DGs) to perform their specified safety function.

The proposed changes do not adversely affect accident initiators or precursors nor alter the design assumptions, conditions, and configuration of the facility or the manner in which the plant is operated and maintained. The proposed changes do not alter or prevent the ability of structures, systems, and components (SSCs) from performing their intended function to mitigate the consequences of an initiating event within the assumed acceptance limits. The proposed changes do not affect the source term, containment isolation, or radiological release assumptions used in evaluating the radiological consequences of an accident previously evaluated. Further, the proposed changes do not increase the types and amounts of radioactive effluent that may be released offsite, nor significantly increase individual or cumulative occupational/public radiation exposures.

Therefore, the changes do not involve a significant increase in the probability or consequences of an accident previously evaluated.

2. Does the proposed change create the possibility of a new or different kind of accident from any accident previously evaluated?

Response: No.

The proposed changes involve the expansion of the test used to establish the acceptability of new fuel oil for use prior to addition to the storage tanks, to allow a water and sediment content test to be performed. In addition, a limit is being added for the amount of particulate allowed in stored fuel, and the specific allowance to utilize the exceptions of SR 3.0.2 and SR 3.0.3.

The changes do not involve a physical alteration of the plant (i.e., no new or different type of equipment will be installed) or a change in the methods governing normal plant operation. The changes do not alter assumptions made in the safety analysis and licensing basis.

Therefore, the changes do not create the possibility of a new or different kind of accident from any accident previously evaluated.

3. Does the proposed change involve a significant reduction in a margin of safety?

Response: No.

The proposed changes involve the expansion of the test used to establish the acceptability of new fuel oil for use prior to addition to storage tanks, to allow a water and sediment content test to be performed. In addition, a limit is being added for the amount of particulate allowed in stored fuel, and the specific allowance to utilize the exceptions of SR 3.0.2 and SR 3.0.3.

The level of safety of facility operation is unaffected by the proposed changes since there is no change in the intent of the TS requirements of assuring fuel oil is of the appropriate quality for emergency DG use. The response of the plant systems to accidents and transients reported in the Updated Final Safety Analysis Report (UFSAR) is unaffected by this change. Therefore, accident analysis acceptance criteria are not affected.

The proposed changes do not reduce a margin of safety since they have no impact on any transient or safety analysis assumptions. Therefore, the changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Daniel F. Stenger, Ballard Spahr Andrews & Ingersoll, LLP, 601 13th Street, NW., Suite 1000 South, Washington, DC 20005.

NRC Section Chief: Richard J. Laufer.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by email to pdr@nrc.gov.

Consumers Energy Company, Docket No. 50-155, Big Rock Point Nuclear Plant, Charlevoix County, Michigan

Date of application for amendment: April 1, 2003, as supplemented by letter dated July 1, 2004.

Brief description of amendment: The amendment adds a license condition which approves the License Termination Plan (LTP) for the Big Rock Point Nuclear Plant, and provides the criteria by which the licensee may make changes to the LTP without prior NRC approval.

Date of issuance: March 22, 2005.

Effective date: As of the date of issuance.

Amendment No.: 126.

Facility Operating License No. DPR-6: The amendment adds a condition to the Facility Operating License.

Date of initial notice in Federal Register: January 21, 2003 (68 FR 2800), and November 25, 2003 (68 FR 66133). The Commission's related evaluation of the amendment is contained in a Safety Evaluation dated March 24, 2005.

No significant hazards consideration comments received: No.

Detroit Edison Company, Docket No. 50-341, Fermi 2, Monroe County, Michigan

Date of application for amendment: September 16, 2004.

Brief description of amendment: The amendment revised Technical Specification Surveillance Requirement (SR) 3.7.6.1 that allows a 5 percent stroke rather than a complete (100 percent) stroke of each Turbine Bypass Valve (TBV), and extends the surveillance frequency from 92 days to 120 days. The complete stroke verification currently required by SR 3.7.6.1 once after each entry into MODE 4 would be retained and renumbered SR 3.7.6.2. The system functional test (current SR 3.7.6.2) and the TBV response time test (current SR 3.7.6.3) were renumbered as SR 3.7.6.3 and SR 3.7.6.4, respectively.

Date of issuance: March 29, 2005.

Effective date: As of the date of issuance and shall be implemented within 30 days.

Amendment No.: 165.

Facility Operating License No. NPF-43: Amendment revised the Technical Specifications.

Date of initial notice in Federal Register: November 9, 2004 (69 FR 64985).

The Commission's related evaluation of the amendment is contained in a Safety Evaluation dated March 29, 2005.

No significant hazards consideration comments received: No.

Dominion Nuclear Connecticut, Inc., et al., Docket No. 50-423, Millstone Power Station, Unit No. 3, New London County, Connecticut

Date of application for amendment: February 10, 2005, as supplemented March 23, 2005.

Brief description of amendment: The amendment extends the allowed outage time (AOT) for the emergency diesel generator (EDG) load sequencer (EGLS) from 6 to 12 hours.

Date of issuance: March 29, 2005.

Effective date: As of the date of issuance and shall be implemented within 5 days from the date of issuance.

Amendment No.: 221.

Facility Operating License No. NPF-49: The amendment revised the Technical Specifications.

Date of initial notice in Federal Register: February 22, 2005 (70 FR 8641).

The Commission's related evaluation of the amendment is contained in a Safety Evaluation dated March 29, 2005.

No significant hazards consideration comments received: No.

Duke Energy Corporation, Docket Nos. 50-369 and 50-370, McGuire Nuclear Station, Units 1 and 2, Mecklenburg County, North Carolina

Date of application for amendments: September 29, 2003, as supplemented by letters dated April 22, May 20, June 9, and July 29, 2004.

Brief description of amendments: The amendment revises the Technical Specification 3.7.15 spent fuel pool (SFP) storage criteria based upon fuel type, fuel enrichment, burnup, cooling time and partial credit for soluble boron in the SFP. The amendment also allows for the safe storage of fuel assemblies with a nominal enrichment of Uranium-235 up to 5.00 weight percent. In addition, this amendment decreases the required soluble boron credit, that provides an acceptable margin of subcriticality in the McGuire Nuclear Station (McGuire), Units 1 and 2, spent fuel storage pools.

Date of issuance: March 17, 2005.

Effective date: As of the date of issuance and shall be implemented within 120 days from the date of issuance.

Amendment Nos.: 227 and 207.

Renewed Facility Operating License Nos. NPF-9 and NPF-17: Amendments revised the Technical Specifications.

Date of initial notice in Federal Register: September 14, 2004 (69 FR 55469).

The supplements dated April 22, May 20, June 9, and July 29, 2004, provided additional information that clarified the application, did not expand the scope of the application as originally noticed, and did not change the staff's original proposed no significant hazards consideration determination as published in the Federal Register.

The Commission's related evaluation of the amendments is contained in a Safety Evaluation dated March 17, 2005.

No significant hazards consideration comments received: No.

Duke Energy Corporation, Docket Nos. 50-269, 50-270, and 50-287, Oconee Nuclear Station, Units 1, 2, and 3, Oconee County, South Carolina

Date of application for amendments: September 28, 2004.

Brief description of amendments: The amendments eliminate the technical specification requirements to submit monthly operating reports and annual occupational radiation exposure reports.

Date of issuance: March 24, 2005.

Effective date: As of the date of issuance and shall be implemented within 30 days from the date of issuance.

Amendment Nos.: 342, 344, & 343.

Renewed Facility Operating License Nos. DPR-38, DPR-47, and DPR-55: Amendments revised the Technical Specifications.

Date of initial notice in Federal Register: November 23, 2004 (69 FR 68182).

The Commission's related evaluation of the amendments is contained in a Safety Evaluation dated March 24, 2005.

No significant hazards consideration comments received: No.

Entergy Nuclear Operations, Inc., Docket No. 50-286, Indian Point Nuclear Generating Unit No. 3, Westchester County, New York

Date of amendment request: June 2, 2004, as supplemented on December 8, 15, and 22, 2004, and January 5 and 28, February 11 and 22, and March 14, 2005.

Description of amendment request: The amendment revises the Technical Specifications (TSs) to fully adopt the alternative source term (AST) methodology for design-basis accident dose consequence evaluations in accordance with 10 CFR 50.67. Specifically, the amendment revises the TS Definition regarding dose equivalent iodine and TS Section 5.5.10, “Ventilation Filter Testing Program (VFTP).” The AST methodology for the fuel-handling accident was previously approved in Amendment No. 215, dated March 17, 2003.

Date of issuance: March 22, 2005.

Effective date: As of the date of issuance and shall be implemented within 30 days.

Amendment No.: 224.

Facility Operating License No. DPR-64: Amendment revised the Technical Specifications.

Date of initial notice in Federal Register: August 31, 2004 (69 FR 53104).

The December 8, 15, and 22, 2004, and January 5 and 28, February 11 and 22, and March 14, 2005, supplements provided additional information that clarified the application, did not expand the scope of the application as originally noticed, and did not change the NRC staff's original proposed no significant hazards consideration determination as published in the Federal Register.

The Commission's related evaluation of the amendment is contained in a Safety Evaluation dated March 22, 2005.

No significant hazards consideration comments received: No.

Entergy Nuclear Operations, Inc., Docket No. 50-286, Indian Point Nuclear Generating Unit No. 3, Westchester County, New York

Date of application for amendment: June 3, 2004, as supplemented on November 18 and December 15, 2004 (2), and February 3 and 11, 2005.

Brief description of amendment: The amendment revises the operating license and Technical Specifications (TSs) to authorize an increase in the maximum steady-state reactor core power level from 3067.4 megawatt thermal (MWt) to 3216 MWt. This represents a nominal increase of 4.85% rated thermal power. The amendment also revises the TSs to relocate certain cycle-specific parameters to the Core Operating Limits Report (COLR) by adopting TS Task Force Traveler TSTF-339, “Relocate Technical Specification Parameters to the COLR.” In addition, the amendment revises several allowable values in TS Table 3.3.1-1, “Reactor Protection System (RPS) Instrumentation,” and Table 3.3.2-1, “Engineered Safety Feature Actuation System (ESFAS) Instrumentation.”

Date of issuance: March 24, 2005.

Effective date: As of the date of issuance and shall be implemented within 30 days.

Amendment No.: 225.

Facility Operating License No. DPR-64: Amendment revised the Technical Specifications and License.

Date of initial notice in Federal Register: August 31, 2004 (69 FR 53105). The November 18 and December 15, 2004, and February 3 and 11, 2005, supplements provided additional information that clarified the application, did not expand the scope of the application as originally noticed, and did not change the NRC staff's original proposed no significant hazards consideration determination as published in the Federal Register.

The Commission's related evaluation of the amendment is contained in a Safety Evaluation dated March 24, 2005.

No significant hazards consideration comments received: No.

Entergy Nuclear Operations, Inc., Docket No. 50-293, Pilgrim Nuclear Power Station, Plymouth County, Massachusetts

Date of application for amendment: September 1, 2004.

Brief description of amendment: The amendment deleted the Technical Specification (TS) requirements to submit monthly operating reports and annual occupational radiation exposure reports.

Date of issuance: March 22, 2005.

Effective date: As of the date of issuance, and shall be implemented within 60 days.

Amendment No.: 212.

Facility Operating License No. DPR-35: The amendment revised the TSs.

Date of initial notice in Federal Register: November 9, 2004 (69 FR 64989).

The Commission's related evaluation of the amendment is contained in a Safety Evaluation dated March 22, 2005.

No significant hazards consideration comments received: No.

Entergy Nuclear Operations, Inc., Docket No. 50-293, Pilgrim Nuclear Power Station, Plymouth County, Massachusetts.

Date of application for amendment: April 14, 2004, as supplemented on November 10, 2004.

Brief description of amendment: This amendment revised Technical Specification (TS) Section 4.7.A.2.a, “Primary Containment Integrity,” to allow a one-time interval extension of no more than 5 years for the Type A, Integrated Leakage Rate Test.

Date of issuance: March 30, 2005.

Effective date: As of the date of issuance, and shall be implemented within 30 days.

Amendment No.: 213.

Facility Operating License No. DPR-35: The amendment revised the TSs.

Date of initial notice in Federal Register: October 26, 2004 (69 FR 62473).

The November 10, 2004, supplement provided additional information that clarified the application, did not expand the scope of the application as originally noticed, and did not change the NRC staff's original proposed no significant hazards consideration determination as published in the Federal Register. The Commission's related evaluation of the amendment is contained in a Safety Evaluation dated March 30, 2005.

No significant hazards consideration comments received: No.

Entergy Nuclear Vermont Yankee, LLC and Entergy Nuclear Operations, Inc., Docket No. 50-271, Vermont Yankee Nuclear Power Station, Vernon, Vermont

Date of application for amendment: September 16, 2003 as supplemented by letter dated March 15, 2004.

Brief description of amendment: This amendment relocated the current definition of surveillance frequency to new Technical Specification (TS) Sections 4.0.2 and 4.0.3, and revises the requirements for a missed surveillance in TS Section 4.0.3. This change allows a longer period of time to perform a missed surveillance. The time is extended from the current limit of up to 24 hours or up to the limit of the specified frequency, whichever is less; to up to 24 hours or up to the limit of the specified frequency, whichever is greater. In conjunction with the proposed change, this amendment added the requirements for a TS Bases Control Program which is consistent with Section 5.5 of NUREG-1433, “Standard Technical Specifications, General Electric Plants, BWR [boiling-water reactor]/4”. In addition, the current definition of surveillance frequency (definition “Y”) has been relocated to new TS Sections 4.0.2 and 4.0.3. The current definition of surveillance interval (definition “Z”) has been re-worded and relocated to new TS Section 4.0.1 consistent with Surveillance Requirement 3.0.1 of NUREG-1433. Appropriate TS Bases, also consistent with NUREG-1433, have been adopted for the new sections. An editorial change has been made to TS 6.7.C to have the reference for the definition of surveillance frequency refer to the new Section 4.0.2.

Date of Issuance: March 16, 2005.

Effective date: As of the date of issuance, and shall be implemented within 30 days.

Amendment No.: 221.

Facility Operating License No. DPR-28: The amendment revised the TSs.

Date of initial notice in Federal Register: December 21, 2004 (69 FR 76491).

The Commission's related evaluation of this amendment is contained in a Safety Evaluation dated March 16, 2005.

No significant hazards consideration comments received: No.

Entergy Nuclear Vermont Yankee, LLC and Entergy Nuclear Operations, Inc., Docket No. 50-271, Vermont Yankee Nuclear Power Station, Vernon, Vermont

Date of application for amendment: September 1, 2004.

Brief description of amendment: The amendment revises the Technical Specifications (TSs) by eliminating the requirements to submit monthly operating reports and annual occupational radiation exposure reports.

Date of Issuance: March 22, 2005.

Effective date: As of the date of issuance, and shall be implemented within 60 days.

Amendment No.: 222.

Facility Operating License No. DPR-28: Amendment revised the TSs.

Date of initial notice in Federal Register: October 12, 2004 (69 FR 60680).

The Commission's related evaluation of this amendment is contained in a Safety Evaluation dated March 22, 2005.

No significant hazards consideration comments received: No.

Entergy Nuclear Vermont Yankee, LLC and Entergy Nuclear Operations, Inc., Docket No. 50-271, Vermont Yankee Nuclear Power Station, Vernon, Vermont

Date of application for amendment: July 31, 2003, as supplemented on October 10, November 7 (2 letters), November 20, December 11 (2 letters), and December 30, 2003, and February 10, February 18, February 25, March 17, May 12, and July 20, 2004.

Brief description of amendment: The amendment revised the Technical Specifications (TSs) and licensing basis to incorporate a full-scope application of an alternative source term methodology in accordance with Title 10 of the Code of Federal Regulations Section 50.67, “Accident Source Term.”

Date of Issuance: March 29, 2005.

Effective date: As of the date of issuance, and shall be implemented within 60 days.

Amendment No.: 223.

Facility Operating License No. DPR-28: The Amendment revised the TSs.

Date of initial notice in Federal Register: November 25, 2003 (68 FR 66135). The supplements contained clarifying information only, and did not change the initial no significant hazards consideration determination or expand the scope of the initial Federal Register notice.

The Commission's related evaluation of this amendment is contained in a Safety Evaluation dated March 29, 2005.

No significant hazards consideration comments received: No.

Entergy Operations, Inc., Docket No. 50-368, Arkansas Nuclear One, Unit 2, Pope County, Arkansas

Date of amendment request: May 12, 2004, as completely superseded by application dated July 8, 2004, as supplemented by letters dated October 14, 2004, and January 19 and March 7, 2005.

Brief description of amendment: The amendment modifies the analytical methods referenced in Technical Specification (TS) 6.6.5 by replacing the existing physics code package with a Westinghouse Nuclear Physics code package and incorporating the methodologies that will support the use of ZIRLO fuel cladding and zirconium diboride burnable absorber coating on uranium dioxide fuel pellets. The amendment also implements TS Task Force Traveler No. 363, to revise the way analytical methods are listed in TS 6.6.5 by identifying the topical report numbers and titles only, and relocating specific revisions, supplement numbers, and approval dates to the core operating limits report. The portion of the application requesting to delete the TS Index will continue to be reviewed and will not be included in this amendment. Therefore, the correlating Index page will be revised as necessary.

Date of issuance: March 23, 2005.

Effective date: As of the date of issuance and shall be implemented within 60 days of issuance.

Amendment No.: 257.

Facility Operating License No. NPF-6: The amendment revises the Technical Specifications.

Date of initial notice in Federal Register: August 31, 2004 (69 FR 53106).

The supplements dated October 14, 2004, and January 19 and March 7, 2005, provided additional information that clarified the application, did not expand the scope of the application as originally noticed, and did not change the staff's original proposed no significant hazards consideration determination as published in the Federal Register.

The Commission's related evaluation of the amendments is contained in a Safety Evaluation dated March 23, 2005.

No significant hazards consideration comments received: No.

Entergy Operations, Inc., Docket No. 50-368, Arkansas Nuclear One, Unit 2 (ANO-2), Pope County, Arkansas

Date of amendment request: July 8, 2004, as supplemented by letters dated February 2, March 8, and March 28, 2005.

Brief description of amendment: The amendment removes the automatic closure interlock (ACI) function and deletes the Technical Specification surveillance requirement associated with the shutdown cooling system ACI. The change also provides a higher pressure setpoint for the open permissive interlock (OPI) and maintains continued functionality of the OPI with a license condition.

Date of issuance: March 30, 2005.

Effective date: As of the date of issuance and shall be implemented within 30 days of issuance.

Amendment No.: 258.

Facility Operating License Nos. NPF-6: The amendments revise the Technical Specifications.

Date of initial notice in Federal Register: August 31, 2004 (69 FR 53106).

The supplements dated February 2, March 8, and March 28, 2005, provided additional information that clarified the application, did not expand the scope of the application as originally noticed, and did not change the staff's original proposed no significant hazards consideration determination as published in the Federal Register.

The Commission's related evaluation of the amendments is contained in a Safety Evaluation dated: March 30, 2005.

No significant hazards consideration comments received: No.

Entergy Operations, Inc., Docket No. 50-382, Waterford Steam Electric Station, Unit 3, St. Charles Parish, Louisiana

Date of amendment request: July 15, 2004, and supplemented by letters dated August 19, September 1, September 14, October 13, and October 19, 2004.

Brief description of amendment: The change implements a full-scope alternative source term (AST) for determining accident offsite doses and accident doses to control room personnel.

Date of issuance: March 29, 2005.

Effective date: As of the date of issuance and shall be implemented prior to restart from refueling outage 13 in the spring of 2005 in order to update the design assumption regarding in-leakage, resolve concerns identified in Generic Letter 2003-01, and support the power uprate implementation.

Amendment No.: 198.

Facility Operating License No. NPF-38: The amendment revised the Updated Final Safety Analyses Report.

Date of initial notice in Federal Register: August 19, 2004 (69 FR 51488). The supplements dated August 19, September 1, September 14, October 13, and October 19, 2004, provided additional information that clarified the application, did not expand the scope of the application as originally noticed, and did not change the staff's original proposed no significant hazards consideration determination as published in the Federal Register.

The Commission's related evaluation of the amendment is contained in a Safety Evaluation dated March 29, 2005.

No significant hazards consideration comments received: No.

Exelon Generation Company, LLC, Docket Nos. 50-373 and 50-374, LaSalle County Station, Units 1 and 2, LaSalle County, Illinois.

Date of application for amendments: April 30, 2004.

Brief description of amendments: The amendments modify requirements in Technical Specifications (TS) to adopt the provisions of Industry/TS Task Force (TSTF) change TSTF-359, “Increased Flexibility in Mode Restraints.”

Date of issuance: March 18, 2005.

Effective date: As of the date of issuance and shall be implemented within 180 days.

Amendment Nos.: 171, 157.

Facility Operating License Nos. NPF-11 and NPF-18: The amendments revised the Technical Specifications.

Date of initial notice in Federal Register: October 26, 2004 (69 FR 62474).

The Commission's related evaluation of the amendments is contained in a Safety Evaluation dated March 18, 2005.

No significant hazards consideration comments received: No.

Exelon Generation Company, LLC, and PSEG Nuclear LLC, Docket Nos. 50-277 and 50-278, Peach Bottom Atomic Power Station, Units 2 and 3, York and Lancaster Counties, Pennsylvania

Date of application for amendments: February 27, 2004, as supplemented September 13, 2004.

Brief description of amendments: These amendments allowed for the activation of the trip outputs of the previously installed oscillation power range monitor portion of the power range neutron monitoring system. Specifically, this change revised Technical Specifications (TSs) Sections 3.3.1.1, “Reactor Protection System (RPS) Instrumentation,” 3.4.1, “Recirculation Loops Operating,” and their associated TS Bases, and 5.6.5, “Core Operating Limits Report (COLR).” In addition, the change deleted the Interim Corrective Action requirements from the Recirculation Loops Operating TSs.

Date of issuance: March 21, 2005.

Effective date: As of the date of issuance, to be implemented within 60 days.

Amendments Nos.: 251 and 254.

Renewed Facility Operating License Nos. DPR-44 and DPR-56: The amendments revised the Technical Specifications.

Date of initial notice in Federal Register: April 13, 2004 (69 FR 19570). The September 13, 2004, letter provided additional information that clarified the application, did not expand the scope of the application as originally noticed, and did not change the staff's original proposed no significant hazards consideration determination.

The Commission's related evaluation of the amendments is contained in a Safety Evaluation dated March 21, 2005.

No significant hazards consideration comments received: No.

FirstEnergy Nuclear Operating Company, et al., Docket No. 50-412, Beaver Valley Power Station, Unit No. 2 (BVPS-2), Beaver County, Pennsylvania

Date of application for amendment: July 23, 2004, as supplemented by letter dated December 8, 2004.

Brief description of amendment: The amendment revised the BVPS-2 Technical Specifications (TSs) eliminating periodic response time testing requirements on selected sensors and selected protection channel components and permits the option of either measuring or verifying the response times by means other than testing.

Date of issuance: March 24, 2005.

Effective date: As of the date of issuance and shall be implemented within 60 days.

Amendment No: 147.

Facility Operating License No. NPF-73: Amendment revised the TSs.

Date of initial notice in Federal Register:August 31, 2004 (69 FR 53109).

The supplement dated December 8, 2004, provided additional information that clarified the application, did not expand the scope of the application as originally noticed, and did not change the staff's original proposed no significant hazards consideration determination as published in the Federal Register.

The Commission's related evaluation of the amendment is contained in a Safety Evaluation dated March 24, 2005.

No significant hazards consideration comments received: No.

Nebraska Public Power District, Docket No. 50-298, Cooper Nuclear Station, Nemaha County, Nebraska

Date of amendment request: November 22, 2004.

Brief description of amendment: The amendment eliminates the requirements to submit monthly operating reports and occupational radiation exposure reports.

Date of issuance: March 22, 2005.

Effective date: As of the date of issuance and shall be implemented within 60 days of issuance.

Amendment No.: 211.

Facility Operating License No. DPR-46: Amendment revised the Technical Specifications.

Date of initial notice in Federal Register: January 18, 2005 (70 FR 2891).

The Commission's related evaluation of the amendment is contained in a Safety Evaluation dated March 22, 2005.

No significant hazards consideration comments received: No.

Nuclear Management Company, LLC, Docket No. 50-331, Duane Arnold Energy Center, Linn County, Iowa

Date of application for amendment: February 27, 2004, as supplemented by letters dated August 9, 2004, and January 7, 2005.

Brief description of amendment: The amendment modifies license condition 2.C.(2)(b) to remove the requirement to perform a full main steam isolation valve closure test associated with extended power uprate. The additional request in the application to modify licensee condition 2.C.(2)(b) to eliminate the requirement to perform a main generator load reject test is not included in this amendment and will be addressed by separate correspondence.

Date of issuance: March 17, 2005.

Effective date: As of the date of issuance and shall be implemented within 30 days.

Amendment No.: 257.

Facility Operating License No. DPR-49: The amendment revised the Operating License.

Date of initial notice in Federal Register: April, 13 2004 (69 FR 19572).

The supplemental letters contained clarifying information and did not change the initial no significant hazards consideration determination and did not expand the scope of the original Federal Register notice.

The Commission's related evaluation of the amendment is contained in a Safety Evaluation dated March 17, 2005.

No significant hazards consideration comments received: No.

Nuclear Management Company, LLC, Docket No. 50-305, Kewaunee Nuclear Power Plant, Kewaunee County, Wisconsin

Date of application for amendment: May 25, 2004, as supplemented February 10, 2005.

Brief description of amendment: The amendment revises the Technical Specifications (TSs) by adding the demand step counters to the TSs and adding a note to allow for a soak time subsequent to substantial rod motion for the rods that exceed their position limits before invoking the TS requirements.

Date of issuance: March 17, 2005.

Effective date: As of the date of issuance and shall be implemented within 60 days.

Amendment No.: 181.

Facility Operating License No. DPR-43: Amendment revised the Technical Specifications.

Date of initial notice in Federal Register: July 6, 2004 (69 FR 40675).

The supplement dated February 10, 2005, provided additional information that clarified the application, did not expand the scope of the application as originally noticed, and did not change the staff's original proposed no significant hazards consideration determination.

The Commission's related evaluation of the amendment is contained in a Safety Evaluation dated. 0

No significant hazards consideration comments received: No.

Omaha Public Power District, Docket No. 50-285, Fort Calhoun Station, Unit No. 1, Washington County, Nebraska

Date of amendment request: September 8, 2004.

Brief description of amendment: This amendment deleted the Technical Specifications associated with the hydrogen monitors.

Date of issuance: March 22, 2005.

Effective date: March 22, 2005, and shall be implemented within 120 days from the date of issuance.

Amendment No.: 234.

Renewed Facility Operating License No. DPR-40: The amendment revised the Technical Specifications.

Date of initial notice in Federal Register: January 18, 2005 (70 FR 2894).

The Commission's related evaluation of the amendment is contained in a safety evaluation dated March 22, 2005.

No significant hazards consideration comments received: No.

Pacific Gas and Electric Company, Docket Nos. 50-275 and 50-323, Diablo Canyon Nuclear Power Plant, Unit Nos. 1 and 2, San Luis Obispo County, California

Date of application for amendments: November 1, 2004.

Brief description of amendments: The amendment eliminates the requirements to submit monthly operating reports and annual occupational radiation exposure reports.

Date of issuance: March 22, 2005.

Effective date: As of the date of issuance and shall be implemented within 60 days of issuance.

Amendment Nos.: Unit 1-180; Unit 2-182.

Facility Operating License Nos. DPR-80 and DPR-82: The amendments revised the Technical Specifications.

Date of initial notice in Federal Register: January 18, 2005 (70 FR 2894).

The Commission's related evaluation of the amendments is contained in a Safety Evaluation dated March 22, 2005.

No significant hazards consideration comments received: No.

PPL Susquehanna, LLC, Docket Nos. 50-387 and 50-388, Susquehanna Steam Electric Station, Units 1 and 2, Luzerne County, Pennsylvania

Date of application for amendments: September 22, 2004.

Brief description of amendments: The amendments modified Technical Specifications (TS) requirements to adopt the provisions of Industry/TS Task Force (TSTF) change TSTF-359, “Increased Flexibility in Mode Restraints.”

Date of issuance: March 18, 2005.

Effective date: As of the date of issuance and shall be implemented within 90 days.

Amendment Nos.: 219 and 195.

Facility Operating License Nos. NPF-14 and NPF-22: The amendments revised the Technical Specifications.

Date of initial notice in Federal Register: January 18, 2005 (70 FR 2895).

The Commission's related evaluation of the amendments is contained in a Safety Evaluation dated March 18, 2005.

No significant hazards consideration comments received: No.

PPL Susquehanna, LLC, Docket Nos. 50-387 and 50-388, Susquehanna Steam Electric Station, Units 1 and 2 (SSES 1 and 2), Luzerne County, Pennsylvania

Date of application for amendments: March 4, 2004.

Brief description of amendments: The proposed amendment revised the SSES 1 and 2 Technical Specification Table 3.3.5.1-1 to clarify that four low-pressure coolant injection pump discharge pressure-high channels are required for each automatic depressurization system trip function.

Date of issuance: March 29, 2005.

Effective date: As of the date of issuance and shall be implemented within 60 days.

Amendment Nos.: 220 and 196.

Facility Operating License Nos. NPF-14 and NPF-22: The amendments revised the Technical Specifications.

Date of initial notice in Federal Register: April 27, 2004 (69 FR 22881).

The Commission's related evaluation of the amendments is contained in a Safety Evaluation dated March 29, 2005.

No significant hazards consideration comments received: No.

Virginia Electric and Power Company, Docket Nos. 50-338 and 50-339, North Anna Power Station, Units 1 and 2, Louisa County, Virginia

Date of application for amendment: September 8, 2004.

Brief description of amendment: These amendments delete the Technical Specifications associated with hydrogen recombiners and hydrogen monitors.

Date of issuance: March 22, 2005.

Effective date: As of the date of issuance and shall be implemented within 60 days from the date of issuance.

Amendment Nos.: 238 and 219.

Renewed Facility Operating License Nos. NPF-4 and NPF-7: Amendments change the Technical Specifications.

Date of initial notice in Federal Register: January 18, 2005 (70 FR 2902).

The Commission's related evaluation of the amendments is contained in a Safety Evaluation dated March 22, 2005.

No significant hazards consideration comments received: No.

Virginia Electric and Power Company, Docket Nos. 50-338 and 50-339, North Anna Power Station, Units 1 and 2, Louisa County, Virginia Date of application for amendment:

December 21, 2004.

Brief description of amendment: These amendments eliminate the requirements to submit monthly operating reports and annual occupational radiation exposure reports.

Date of issuance: March 22, 2005.

Effective date: As of the date of issuance and shall be implemented within 90 days from the date of issuance.

Amendment Nos.: 239 and 220.

Renewed Facility Operating License Nos. NPF-4 and NPF-7: Amendments change the Technical Specifications.

Date of initial notice in Federal Register: January 18, 2005 (70 FR 2903).

The Commission's related evaluation of the amendments is contained in a Safety Evaluation dated March 22, 2005.

No significant hazards consideration comments received: No.

Virginia Electric and Power Company, et al., Docket Nos. 50-280 and 50-281, Surry Power Station, Units 1 and 2, Surry County, Virginia

Date of application for amendments: September 8, 2004.

Brief Description of amendments: These amendments delete the Technical Specifications associated with hydrogen monitors.

Date of issuance: March 22, 2005.

Effective date: As of the date of issuance and shall be implemented within 60 days from the date of issuance.

Amendment Nos.: 239 and 238.

Renewed Facility Operating License Nos. DPR-32 and DPR-37: Amendments change the Technical Specifications.

Date of initial notice in Federal Register: January 18, 2005 (70 FR 2902).

The Commission's related evaluation of the amendments is contained in a Safety Evaluation dated March 22, 2005.

No significant hazards consideration comments received: No.

Virginia Electric and Power Company, et al., Docket Nos. 50-280 and 50-281, Surry Power Station, Units 1 and 2, Surry County, Virginia

Date of application for amendments: December 21, 2004.

Brief Description of amendments: These amendments revise the Technical Specifications by eliminating the requirements to submit monthly operating reports and occupational radiation exposure reports.

Date of issuance: March 22, 2005.

Effective date: March 22, 2005.

Amendment Nos.: 240 and 239.

Renewed Facility Operating License Nos. DPR-32 and DPR-37: Amendments change the Technical Specifications.

Date of initial notice in Federal Register: January 18, 2005 (70 FR 2903).

The Commission's related evaluation of the amendments is contained in a Safety Evaluation dated March 22, 2005.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) The application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) e-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer or the Atomic Safety and Licensing Board that the petition, request and/or the contentions should be granted based on a balancing of the factors specified in 10 CFR 2.309(a)(1)(I)-(viii).

South Carolina Electric & Gas Company, South Carolina Public Service Authority, Docket No. 50-395, Virgil C. Summer Nuclear Station (VCSNS), Unit No. 1, Fairfield County, South Carolina

Date of amendment request: March 9, 2005.

Description of amendment request: This amendment revises TS 3/4.7.6, “Control Room Normal and Emergency Air Handling System,” and associated Bases, to provide an Action when the Control Room Normal and Emergency Air Handling System ventilation boundary is inoperable and a note that allows the ventilation boundary to be open, intermittently under administrative controls.

Date of issuance: March 21, 2005.

Effective date: As of the date of issuance and shall be implemented within 30 days.

Amendment No.: 171.

Renewed Facility Operating License No. NPF-12: Amendment revises the Technical Specifications.

Public comments requested as to proposed no significant hazards consideration (NSHC): Yes. Public Notices were given in the Columbia The State on March 16 and 17 and in the Newberry Observer on March 16 and 18. The notices provided an opportunity to submit comments on the Commission's proposed NSHC determination. No comments have been received. The Commission's related evaluation of the amendment, finding of exigent circumstances, state consultation, and final NSHC determination are contained in a safety evaluation dated March 21, 2005.

Attorney for licensee: Thomas Eppink.

NRC Section Chief: John A. Nakoski.

Dated at Rockville, Maryland, this 4th day of April 2005.
For the Nuclear Regulatory Commission.
Ledyard B. Marsh,
Director, Division of Licensing Project Management, Office of Nuclear Reactor Regulation.

[FR Doc. 05-6996 Filed 4-11-05; 8:45 am]

BILLING CODE 7590-01-P